DEPARTMENT OF COMMERCE

International Trade Administration

[Docket No. 150416372-5569-02]

DEPARTMENT OF STATE

DEPARTMENT OF TRANSPORTATION

Information on Assertions Raised About State-Owned Airlines in Qatar and the UAE

AGENCY: International Trade Administration, U.S. Department of Commerce; Bureau of Economic and Business Affairs, U.S. Department of State; Office of Aviation and International Affairs, U.S. Department of Transportation.

ACTION: Supplemental notice.

SUMMARY: This notice supplements the Federal Register notice published on May 5, 2015 by the Departments of Commerce, State, and Transportation announcing their interest in obtaining information and views on assertions that three foreign airlines—Emirates Airline, Etihad Airways, and Qatar Airways—have received and are benefitting from subsidies from their respective governments that are distorting the global aviation market. This notice establishes deadlines for submission of information and provides additional guidance for submission of information that the submitter believes to be exempt from disclosure under the Freedom of Information Act (FOIA) (hereafter “Confidential Information”) (such as trade secrets and commercial or financial information obtained from a person that is privileged or confidential).

DATES: The Departments request that information provided in response to the Departments' May 5, 2015 Federal Register notice be submitted to the dockets by 11:59 p.m. Eastern Daylight Time (EDT) on August 3, 2015. The Departments further request that additional materials commenting on information submitted to the dockets be submitted by 11:59 p.m. EDT on August 24, 2015. The Departments may, at their discretion, establish additional deadlines for submission of further materials to the dockets.

ADDRESSES: You may submit comments regarding these assertions by one of the following methods:

• Electronic Submission: Submit all electronic comments via the Federal e-Rulemaking Portal at http://www.regulations.gov. The materials in the dockets will not be edited to remove identifying or contact information, and the Departments caution against including any information in an electronic submission that the submitter does not want publicly disclosed. You may submit comments in any (or all) of the three docket numbers open for comment:

• DOT-OST-2015-0082

• DOS-2015-0016

• DOC-2015-0001

• Hard copy submission for Confidential Information: Any submissions containing Confidential Information must be delivered to each of the three Departments in the following manner:

○ Deliver the submission in a sealed envelope marked “confidential treatment requested”;

○ Provide an index listing the document(s) or information that the submitter would like the Departments to withhold. The index should include information such as numbers used to identify the relevant document(s) or information, document title and description, and relevant pages numbers and/or section numbers within a document; and

○ Provide a statement explaining the submitter's grounds for objecting to disclosure of the information to the public.

The Departments also request that submitters of Confidential Information, including those who have previously submitted Confidential Information, include a non-confidential version (either redacted or summarized) of those confidential submissions in the public dockets. In the event that the submitter cannot provide a non-confidential version of its submission, the Departments request that the submitter post a notice in the dockets stating that it has provided the Departments with Confidential Information. Should a submitter fail to docket either a non-confidential version of its submission or to post a notice that Confidential Information has been provided, the Departments will note the receipt of the submission on the dockets, including for submissions already received, with the submitter's organization or name (to the degree permitted by law) and the date of submission.

FOR FURTHER INFORMATION CONTACT: Eugene Alford, Office of Supply Chain, Professional & Business Services, International Trade Administration (Phone: (202) 482-5071 or Email: airservices@trade.gov). Robert Newsome, Transportation Affairs, Bureau of Economic and Business Affairs, U.S. Department of State (Phone: (202) 647-7540 or Email: newsomerc@state.gov). Claire McKenna, Office of Operations, Office of the General Counsel, U.S. Department of Transportation (Phone: (202) 366-0365 or Email: Claire.McKenna@dot.gov).

SUPPLEMENTARY INFORMATION:

Background

The U.S. Departments of Commerce, State, and Transportation are reviewing assertions that three foreign airlines—Emirates Airline, Etihad Airways, and Qatar Airways—have received and are benefitting from subsidies from their respective governments of the United Arab Emirates (UAE) and Qatar that are distorting the global aviation market. The three Departments announced by Federal Register notice on May 5, 2015 (80 FR 25671), the establishment of an open forum by which any interested stakeholder may submit information regarding its views on this subject and have access to such information submitted by other interested stakeholders. The Departments are publishing this supplemental notice to establish deadlines for the submission of information to the dockets and to provide additional guidance for submission of Confidential Information. See the deadlines listed in the DATES section, and procedures listed in the ADDRESSES section above. To ensure that their views are considered, stakeholders should provide a written submission to the Departments.

In reviewing Freedom of Information Act (FOIA) requests submitted to the Departments for information related to this matter that may include Confidential Information, the Departments are applying the FOIA, 5 U.S.C. 552, and their respective FOIA regulations, including the submitter notice process outlined in Executive Order 12,600. The Departments also are supplementing the Questions & Answers for Information Docket posted at http://www.regulations.gov to further clarify the procedures and policies the Departments are applying regarding information submitted to the Departments in this matter.

Dated: July 1, 2015.
Marcus Jadotte,
Assistant Secretary for Industry and Analysis, Department of Commerce.
Dated: July 1, 2015.
Thomas Engle,
Deputy Assistant Secretary for Transportation Affairs, Department of State.
Dated: July 1, 2015.
Brandon Belford,
Deputy Assistant Secretary for Aviation and International Affairs, Department of Transportation.

Supplemental Questions & Answers for Information Docket

1) Q. The Departments say that review of the new material will begin towards the end of May. What do the three Departments intend to do with this material?

A. We are asking for stakeholder input on this matter to supplement the information that we are already reviewing and considering. No decision has been made on next steps.

2) Q. When will the joint docket on www.regulations.gov close for submissions?

A. Information provided in response to the Departments' May 5, 2015 notice must be submitted to the dockets by 11:59 p.m. Eastern Daylight Time (EDT) on August 3, 2015. Additional materials commenting on information submitted to the dockets must be submitted by 11:59 p.m. EDT on August 24, 2015. The Departments may, at their discretion, establish additional deadlines for submission of further materials to the dockets. To ensure that their views are considered, stakeholders should provide a written submission to the Departments.

3) Q. The April 10 press release refers to the Administration's Open Government Initiative. Does the open and transparent character of this forum mean that anyone can file anything?

A. The Departments are not interested in limiting the scope of what the public may offer in terms of submissions. There is no specific constraint on the material that interested stakeholders may submit. Of course, we expect that the submissions will be relevant, and we encourage thoughtful insights and analysis.

4) Q. I understand that the docket on the www.regulations.gov will be accessible to the public. Is the public docket the only means by which I can provide information?

A. While the preference is for written submissions to be made available to the public, the establishment of the joint docket is not intended to foreclose other means of communication with the three Departments and U.S. government officials. Please note that the materials in the dockets will not be edited to remove identifying or contact information, and the Departments caution against including any information in an electronic submission that one does not want publicly disclosed.

5) Q. How do I submit information that I believe to be confidential information?

A. Please refer to the Federal Register notice for the procedure. The Departments request that submitters of information that the submitter believes to be exempt from disclosure under the Freedom of Information Act (FOIA) (hereafter “Confidential Information”) (such as trade secrets and commercial or financial information obtained from a person that is privileged or confidential), including those who have previously submitted Confidential Information, include a non-confidential version (either redacted or summarized) of those confidential submissions in the public dockets. In the event that the submitter cannot provide a non-confidential version of its submission, the Departments request that the submitter post a notice in the dockets stating that it has provided the Departments with Confidential Information. Should a submitter fail to docket either a non-confidential version of its submission or to post a notice that Confidential Information has been provided, the Departments will note the receipt of the submission on the dockets, including for submissions already received, with the submitter's organization or name (to the degree permitted by law) and the date of submission.

6) Q. How will the Departments handle Freedom of Information (FOIA) requests for materials provided by stakeholders and identified as “Confidential Information”?

A. As noted in the Federal Register notice, the Departments will process FOIA requests for information submitted regarding the Gulf Carriers matter and marked “Confidential Information” in accordance with the FOIA and the Departments' respective FOIA regulations, including the submitter notice process outlined in Executive Order 12,600. Each Department will follow its normal FOIA procedures as to requests received.

7) Q. In the May 5, 2015 notice, the Departments did not establish a deadline for comments, but said that materials should be submitted as soon as is practicable. Why has this changed and how will materials submitted after the new deadlines be treated?

A. The Departments have received considerable information from stakeholders to date. In order to be responsive to all stakeholders, the Departments are proceeding with review of submissions but are providing further opportunity for stakeholders to submit materials for the Departments' review. Please refer to the Federal Register notice for deadlines.

[FR Doc. 2015-16648 Filed 7-7-15; 8:45 am]

BILLING CODE 3510-DR-P